FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 962. Interested parties may submit comments on an agreement to the Secretary, Federal Maritime Commission, Washington, DC 20573, within 10 days of the date this notice appears in the Federal Register.

Agreement No.: 203-011443-003.

Title: Space Charter and Cooperative Working Agreement Between NYK and WW Lines.

Parties: Wallenius Wilhelmsen Lines AS. Nippon Yusen Kaisha.

Synopsis: The amendment revises the agreement by deleting NYKNOS Joint Service as a party to the agreement and substitutes WW Lines. The amendment restates and changes the name of the agreement, as well as providing for authority for the parties to discuss and voluntarily agree on rates in the trade between the U.S. and the Middle East.

Agreement No.: 217-11699.

Title: CMA CGM/Wan Hai Lines Ltd. Cooperation Agreement.

Parties: CMA CGM S.A. Wan Hai Lines Ltd.

Synopsis: Under the proposed agreement, the parties agree to charter slots to each other on vessels operating in the trades between the U.S. West Coast and ports in the Far East in the Japan/Singapore/South East Asia range. The agreement authorizes the parties to consult on the number and size of vessels, sailings, schedules, and port calls as well as certain cooperative activities involving chartering of space, facilities and supplies. The parties request expedited approval.

By Order of the Federal Maritime Commission.
Dated: March 31, 2000.
Bryant L. VanBrakle,
Secretary.

[FR Doc. 00-8359 Filed 4-4-00; 8:45 am]

BILLING CODE 6730-01-P